INTERNATIONAL TRADE COMMISSION

[Investigation Nos. TA-131-045 and TPA-105-006]

U.S.-UK Trade Agreement: Advice on the Probable Economic Effect of Providing Duty-free Treatment for Currently Dutiable Imports

AGENCY: United States International Trade Commission.

ACTION: Change in dates relating to the Commission's hearing, the filing of briefs and other written submissions, and for transmittal of the Commission's report to the United States Trade Representative (USTR).

SUMMARY: Due to the lapse of appropriation between December 22, 2018 and January 25, 2019, the Commission has changed certain dates announced in its notice of investigation and hearing for these investigations: (i) It has extended the deadline for filing requests to appear at the public hearing from January 10, 2019 to February 14, 2019; (ii) it has extended the deadline for filing prehearing briefs and statements from January 14, 2019 to February 19, 2019; (iii) it has rescheduled the public hearing from January 31, 2019 to March 6, 2019; (iv) it has extended the deadline for filing post-hearing briefs and all other written submissions from February 11, 2019 to March 18, 2019; and (v) it will transmit its report to the USTR by June 12, 2019 instead of by May 8, 2019.

DATES: February 11, 2019.

FOR FURTHER INFORMATION CONTACT: Project Leader David Guberman (202-708-1396 or david.guberman@usitc.gov) or Deputy Project Leader Amanda Lawrence (202-205-3185 or amanda.lawrence@usitc.gov) for information specific to these investigations. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: The Commission published notice of institution of the above referenced investigations in the Federal Register on December 13, 2018 (83 FR 59417, December 13, 2018). Due to the lapse in appropriation (December 22, 2018 to January 25, 2019), the Commission has changed certain dates announced in that notice regarding these investigations: (i) It has extended the deadline for filing requests to appear at the public hearing from January 10, 2019 to February 14, 2019; (ii) it has extended the deadline for filing prehearing briefs and statements from January 14, 2019 to February 19, 2019; (iii) it has rescheduled a public hearing from January 31, 2019 to March 6, 2019; (iv) it has extended the deadline for filing post-hearing briefs and all other written submissions from February 11, 2019 to March 18, 2019; and (v) it will transmit its report to the USTR by June 12, 2019 instead of by May 8, 2019. All other dates pertaining to these investigations remain the same as in the notice published in the Federal Register on December 13, 2018.

By order of the Commission.
Issued: February 11, 2019.
Lisa Barton,
Secretary to the Commission.

[FR Doc. 2019-02436 Filed 2-14-19; 8:45 am]

BILLING CODE 7020-02-P